DEPARTMENT OF THE INTERIOR

National Park Service

[NPS-WASO-NAGPRA-NPS0035690; PPWOCRADN0-PCU00RP14.R50000]

Notice of Intent To Repatriate Cultural Items: Robert S. Peabody Institute of Archaeology, Andover, MA

AGENCY: National Park Service, Interior.

ACTION: Notice.

SUMMARY: In accordance with the Native American Graves Protection and Repatriation Act (NAGPRA), the Robert S. Peabody Institute of Archaeology intends to repatriate certain cultural items that meet the definition of unassociated funerary objects and objects of cultural patrimony and that have a cultural affiliation with the Indian Tribes or Native Hawaiian organizations in this notice. The cultural items were removed from Adams County, MS.

DATES: Repatriation of the cultural items in this notice may occur on or after May 22, 2023.

ADDRESSES: Ryan J. Wheeler, Robert S. Peabody Institute of Archaeology, Phillips Academy, 180 Main Street, Andover, MA 01810, telephone (978) 749-4490, email rwheeler@andover.edu.

SUPPLEMENTARY INFORMATION: This notice is published as part of the National Park Service's administrative responsibilities under NAGPRA. 25 U.S.C. 3003(d)(3). The determinations in this notice are the sole responsibility of the Robert S. Peabody Institute of Archaeology. The National Park Service is not responsible for the determinations in this notice. Additional information on the determinations in this notice, including the results of consultation, can be found in the summary or related records held by the Robert S. Peabody Institute of Archaeology.

Description

In 1924, during an expedition for the Robert S. Peabody Institute of Archaeology, Warren K. Moorehead removed 42 unassociated funerary objects and objects of cultural patrimony from five mound sites in Adams County, MS. Eight lots of ceramic sherds (catalog nos. 2018.2.1191, 59648, 59651, 59691, 59701, 59704, 59707, and 59733), one lot of daub fragments (catalog no. 59705), two lots of faunal bone (catalog nos. 59703 and 59706), and three lots of modified stones and stone tools (catalog nos. 59692, 59693, and 59702) were removed from multiple components of the Anna Mounds (also called John Stover's or John Stower's; Small mound, Anna; and Temple Mound, Stover's or Stower's, Anna) in Adams County, MS. Three lots of faunal bone (catalog nos. 59650, 59709, and 59722), one lot of stone tools (catalog no. 59680), eight lots of ceramic sherds (catalog nos. 59649, 59681, 59682, 59690, 59708, 59710, 59724, and 2018.2.1195), one lot of mineral fragments and stone objects (catalog no. 59723), and one ceramic vessel (catalog no. 2018.2.1196) were removed from Emerald Mound in Adams County, MS. Five lots of ceramic sherds and daub fragments (catalog nos. 59641, 59642, 59643, 59731, and 59732), one lot of stone tools (catalog no. 59645), two lots of faunal bone (catalog nos. 59646 and 59647), and one fragment of burnt clay (catalog no. 59644) were removed from Bennett Mound in Adams County, MS. One lot of ceramic sherds (catalog no. 59640) was removed from Bruntts Mound in Adams County, MS. Two pottery vessels (catalog nos. 59684 and 59685), one stone disk (catalog no. 59602), and one fragmentary ceramic effigy (catalog no. 59711) were removed from Ratcliffe Mounds in Adams County, MS.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, and expert opinion.

Determinations

Pursuant to NAGPRA and its implementing regulations, and after consultation with the appropriate Indian Tribes and Native Hawaiian organizations, the Robert S. Peabody Institute of Archaeology has determined that:

• Pursuant to 25 U.S.C. 3001(3)(B), the 42 cultural items described above are reasonably believed to have been placed with or near individual human remains at the time of death or later as part of the death rite or ceremony and are believed, by a preponderance of the evidence, to have been removed from specific burial sites of Native American individuals.

• Pursuant to 25 U.S.C. 3001(3)(D), the 42 cultural items described above have ongoing historical, traditional, or cultural importance central to the Native American group or culture itself, rather than property owned by an individual.

• Pursuant to 25 U.S.C. 3001(2) there is a relationship of shared group identity that can be reasonably traced between the cultural items and The Muscogee (Creek) Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 22, 2023. If competing requests for repatriation are received, the Robert S. Peabody Institute of Archaeology must determine the most appropriate requestor prior to repatriation. Requests for joint repatriation of the cultural items are considered a single request and not competing requests. The Robert S. Peabody Institute of Archaeology is responsible for sending a copy of this notice to the Indian Tribe identified in this notice.

Authority: Native American Graves Protection and Repatriation Act, 25 U.S.C. 3003, and the implementing regulations, 43 CFR 10.8, 10.10, and 10.14.

Dated: April 10, 2023.
Melanie O'Brien,
Manager, National NAGPRA Program.

[FR Doc. 2023-08333 Filed 4-19-23; 8:45 am]

BILLING CODE 4312-52-P